DEPARTMENT OF ENERGY

Federal Energy Regulatory Commission

Combined Notice of Filings #2

Take notice that the Commission received the following electric rate filings:

Docket Numbers: ER10-2848-004; ER11-1939-006; ER11-2754-006; ER12-999-004; ER12-1002-004; ER12-1005-004; ER12-1006-004; ER12-1007-005.

Applicants: AP Holdings, LLC, AP Gas & Electric (PA), LLC, AP Gas & Electric (IL), LLC, AP Gas & Electric (MD), LLC, AP Gas & Electric (NJ), LLC, AP Gas & Electric (OH), LLC, AP Gas & Electric (NY), LLC, AP Gas & Electric (TX), LLC.

Description: Notification of Non-Material Change in Status of AP Holdings Subsidiaries.

Filed Date: 10/31/13.

Accession Number: 20131031-5189.

Comments Due: 5 p.m. ET 11/21/13.

Docket Numbers: ER14-23-000.

Applicants: Northern States Power Company, a Minnesota corporation.

Description: Northern States Power Company, a Minnesota corporation submits 2013-10-31_SuppTheRecordInER14-23 to be effective N/A.

Filed Date: 10/31/13.

Accession Number: 20131031-5154.

Comments Due: 5 p.m. ET 11/21/13.

Docket Numbers: ER14-238-000.

Applicants: Southern California Edison Company.

Description: Southern California Edison Company submits SGIA and Distribution Service Agmt with NRG Solar Blythe II LLC to be effective 12/31/2013.

Filed Date: 10/31/13.

Accession Number: 20131031-5003.

Comments Due: 5 p.m. ET 11/21/13.

Docket Numbers: ER14-239-000.

Applicants: Consolidated Edison Company of New York, Inc., New York Independent System Operator, Inc.

Description: Consolidated Edison Company of New York, Inc. submits Amended Restated LGIA No. 1668—NYISO, Con Edison, Bayonne Energy Center to be effective 10/16/2013.

Filed Date: 10/31/13.

Accession Number: 20131031-5005.

Comments Due: 5 p.m. ET 11/21/13.

Docket Numbers: ER14-240-000.

Applicants: Golden Spread Electric Cooperative, Inc.

Description: Golden Spread Electric Cooperative, Inc. submits Lyntegar Contract File to be effective 12/31/2013.

Filed Date: 10/31/13.

Accession Number: 20131031-5079.

Comments Due: 5 p.m. ET 11/21/13.

Docket Numbers: ER14-241-000.

Applicants: Idaho Power Company.

Description: Idaho Power Company submits tariff filing per 35.13(a)(2)(iii: 2014-2015 NTTG Funding Agreement to be effective 1/1/2014.

Filed Date: 10/31/13.

Accession Number: 20131031-5089.

Comments Due: 5 p.m. ET 11/21/13.

Docket Numbers: ER14-242-000.

Applicants: Tampa Electric Company.

Description: Tampa Electric Company submits Section 205 Transmission Depreciation Rates 2013 Filing to be effective 1/1/2013.

Filed Date: 10/31/13.

Accession Number: 20131031-5110.

Comments Due: 5 p.m. ET 11/21/13.

Docket Numbers: ER14-243-000.

Applicants: Tampa Electric Company.

Description: Tampa Electric Company submits Section 205 Requirements Depreciation Rates 2013 Filing to be effective 1/1/2013.

Filed Date: 10/31/13.

Accession Number: 20131031-5112.

Comments Due: 5 p.m. ET 11/21/13.

Docket Numbers: ER14-244-000.

Applicants: NSTAR Electric Company.

Description: NSTAR Electric Company submits HQUS Transfer Agreement to be effective 1/1/2014.

Filed Date: 10/31/13.

Accession Number: 20131031-5136.

Comments Due: 5 p.m. ET 11/21/13.

Docket Numbers: ER14-245-000.

Applicants: PacifiCorp.

Description: PacifiCorp submits BPA Trans System Interconnection Agmt—Wine Country to be effective 12/31/2013.

Filed Date: 10/31/13.

Accession Number: 20131031-5169.

Comments Due: 5 p.m. ET 11/21/13.

Docket Numbers: ER14-246-000.

Applicants: Central Minnesota Municipal Power Agency.

Description: On behalf of Central Minnesota Municipal Power Agency, Midcontinent Independent System Operator, Inc. submits Request for Authorization to Recover Regulatory Asset in Rates.

Filed Date: 10/31/13.

Accession Number: 20131031-5181.

Comments Due: 5 p.m. ET 11/21/13.

Docket Numbers: ER14-247-000.

Applicants: New England Power Pool Participants Committee.

Description: New England Power Pool Participants Committee submits November 2013 Membership Filing to be effective 10/1/2013.

Filed Date: 10/31/13.

Accession Number: 20131031-5188.

Comments Due: 5 p.m. ET 11/21/13.

Docket Numbers: ER14-248-000.

Applicants: Dynegy Oakland, LLC.

Description: Dynegy Oakland, LLC submits Annual RMR Section 205 Filing and RMR Schedule F Informational Filing to be effective 1/1/2014.

Filed Date: 10/31/13.

Accession Number: 20131031-5202.

Comments Due: 5 p.m. ET 11/21/13.

Take notice that the Commission received the following electric securities filings:

Docket Numbers: ES13-56-000.

Applicants: Transource Missouri, LLC.

Description: Second Amendment to September 20, 2013 Application of Transource Missouri, LLC for Authorization Under Section 204(A) of the Federal Power Act to Borrow Up to $350 Million.

Filed Date: 10/31/13.

Accession Number: 20131031-5143.

Comments Due: 5 p.m. ET 11/12/13.

Docket Numbers: ES14-8-000.

Applicants: Baltimore Gas & Electric Company.

Description: Application of Baltimore Gas & Electric Company under Section 204 of the Federal Power Act for Authorization of the Issuance of Securities.

Filed Date: 10/31/13.

Accession Number: 20131031-5175.

Comments Due: 5 p.m. ET 11/21/13.

Take notice that the Commission received the following land acquisition reports:

Docket Numbers: LA13-3-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, Vantage Wind Energy LLC, Stony Creek Energy LLC, Gratiot County Wind LLC, Gratiot County Wind II LLC, Bishop Hill Energy LLC, Bishop Hill Energy III LLC and California Ridge Wind Energy LLC.

Description: Quarterly Land Acquisition Report of Spring Canyon Energy LLC, et al.

Filed Date: 10/31/13.

Accession Number: 20131031-5170.

Comments Due: 5 p.m. ET 11/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 31, 2013.
Nathaniel J. Davis, Sr.,
Deputy Secretary.

[FR Doc. 2013-26966 Filed 11-8-13; 8:45 am]

BILLING CODE 6717-01-P